DEPARTMENT OF THE INTERIOR

Bureau of Indian Affairs

Notice of Intent To Prepare an Environmental Impact Statement for the Proposed Drilling of Additional Exploration and Development Natural Gas Wells in and Adjacent to the Muddy Ridge and Pavilion Fields and the Surrounding Areas, Wind River Indian Reservation, Fremont County, WY

AGENCY: Bureau of Indian Affairs, Interior.

ACTION: Notice.

SUMMARY: This notice advises the public that the Bureau of Indian Affairs (BIA), in cooperation with the Shoshone and Arapahoe Tribes and the Bureau of Land Management (BLM), intends to gather information necessary for preparing an Environmental Impact Statement (EIS) for the drilling of additional exploration and development natural gas wells in and adjacent to the Muddy Ridge and Pavilion fields and the surrounding areas, Wind River Indian Reservation, Fremont County, Wyoming. The purpose of the proposed action is to meet the Tribes' need to maximize their economic benefit from this trust resource. A description of the proposed project, location, and environmental consideration to be addressed in the EIS are provided in the SUPPLEMENTARY INFORMATION section.

DATES: Written comments on the scope and content of the EIS must arrive by February 25, 2003.

ADDRESSES: You may mail or hand carry written comments to Ray A. Nation, Environmental Coordinator, Bureau of Indian Affairs, Wind River Agency, P.O. Box 158, Fort Washakie, Wyoming 82514.

FOR FURTHER INFORMATION CONTACT: Ray A. Nation, (307) 332-3718, or Stuart Cerovski, (307) 332-8426.

SUPPLEMENTARY INFORMATION: The Wind River Natural Gas Development Project area is generally located in Townships 3 and 4 North, Range 2 through 5 East, in Fremont County, Wyoming. The project area contains about 92,000 acres.

The Wind River Project consists of the drilling of up to 325 new wells in the project area over the next 20 years. Economic conditions and the evaluation of the drilling results would determine the actual number of wells that would be drilled. In addition, the project will require the construction of 325 associated lease roads (excluding 153 existing wells), 78 miles of new natural gas pipeline (excluding 62 existing miles), and 18,175 horsepower of new compression on approximately six new sites on private, federal and tribal lands. This 18,175 horsepower will increase the current 14,540 horsepower natural gas compression capacity total to 32,715 horsepower.

During the drilling and construction phase, the proposed well pads, pipelines and roads would result in the short-term disturbance of approximately 1,863 acres, or 2.02 percent of the total surface area in the project area. Well pads would be reduced in size following the completion of drilling operations, and pipeline right-of-ways restored upon completion of construction. Long-term disturbance would affect approximately 922 acres or 1.00 percent of the total surface area.

The Wind River Project area currently contains two active natural gas fields that are predominantly developed under 40 and 20-acre spacing, depending upon formation. An existing road network developed to service existing drilling and production activities access the Wind River Project area, but it is expected that the drilling of additional wells within the project area would require the construction of additional roads. Existing pipelines and new pipelines, including new gathering lines, looplines and tie-ins to existing interstate pipelines, would transport the produced gas within the project area.

While the Wind River environmental analysis is being conducted, the BIA/BLM will allow some drilling of wells within the proposed project area. Interior drilling will be monitored by the BIA/BLM to ensure that activities do not adversely affect the environment or prejudice the completion of the environmental analysis.

Public Comment Availability

Public meetings on the scope and content of the EIS were held on October 22, 2002, in Pavilion, Wyoming, and October 23, 2002, in Fort Washakie, Wyoming. Comments from these meetings, plus all others we receive, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: January 10, 2003.
Aurene M. Martin,
Acting Assistant Secretary—Indian Affairs.

[FR Doc. 03-1592 Filed 1-23-03; 8:45 am]

BILLING CODE 4310-W7-P